DEPARTMENT OF JUSTICE

Antitrust Division

Notice Pursuant to the National Cooperative Research and Production Act of 1993—Bluetooth Sig, Inc.

Notice is hereby given that, on May 30, 2012, pursuant to Section 6(a) of the National Cooperative Research and Production Act of 1993, 15 U.S.C. 4301 et seq. (“the Act”), Bluetooth SIG, Inc. has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the Delaware non-stock, non-profit standards development organization is Bluetooth SIG, Inc., Kirkland, WA. The nature and scope of Bluetooth SIG, Inc.'s standards development activities are to develop Bluetooth® wireless specifications and profiles. Additional information concerning Bluetooth SIG, Inc. may be obtained from Christine Scott, Bluetooth SIG, Inc.'s Director of Operations.

Patricia A. Brink,
Director of Civil Enforcement, Antitrust Division.

[FR Doc. 2012-15932 Filed 6-28-12; 8:45 am]

BILLING CODE P